DEPARTMENT OF THE INTERIOR

National Park Service

Draft General Management Plan/Environmental Impact Statement for Olympic National Park, Washington

AGENCY: National Park Service; DOI.

ACTION: Notice of Intent to prepare an Environmental Impact Statement for the General Management Plan, Olympic National Park, Washington.

SUMMARY: In Accordance with section 102(2)(C) of the National Environmental Policy Act of 1969 (Public Law 91-190), the Olympic National Park is initiating an environmental impact analysis process to identify and assess potential impacts of alternative management concepts for future management of the Olympic National Park. Notice is hereby given that the National Park Service will prepare a general management plan and environmental impact statement (GMP/EIS).

Olympic National Park will identify and analyze a range of alternatives so as to evaluate differing management options for resource protection, visitor use, access, operations, facility development, and land protection for the area. As a conceptual framework for formulating these alternatives, the purpose of the park and associated significant cultural and natural resources, wilderness values, and major visitor experiences will be specified.

Comments

All interested persons, organizations, and agencies wishing to provide initial scoping comments about issues or concerns that should be addressed during the GMP/EIS process may send such information to the Superintendent, Olympic National Park, 600 East Park Ave., Port Angeles, Washington 98362-9798. Written comments should be postmarked no later that September 30, 2001.

In addition, several public scoping sessions will be held after publication of this Notice, affording an additional early comment opportunity. Locations, dates, and times of these meetings will be provided in local and regional newspapers, a scoping newsletter to be mailed in late July 2001, and via the Internet at www.nps.gov/olmy/home.htm or www.nps.gov/planning/index.htm. Inquiries regarding public meetings may be directed to the contact listed below.

All comments received will become part of the public record and copies of comments, including any names and home addresses of respondents, may be released for public inspection. Individual respondents may request that their home addresses be withheld from the public record, which will be honored to the extent allowable by law. Requests to withhold names and/or addresses must be stated prominently at the beginning of the comments. Anonymous comments will not be considered. Submissions from organizations or businesses, and from individuals identifying themselves as representatives or officials of organizations or businesses, will be made available for public inspection in their entirety.

Because the responsibility for approving the GMP/EIS has been delegated to the National Park Service, the EIS is a “delegated” EIS. The responsible official is John J. Reynolds, Regional Director, Pacific West Region, National Park Service.

FOR FURTHER INFORMATION CONTACT: Superintendent, Olympic National Park, 600 East Park Ave., Port Angeles, Washington 98362-9798; telephone (360) 565-3001.

Dated: May 1, 2001.
Rory D. Westberg,
Superintendent, Columbia Cascades Support Office, Pacific West Region.

[FR Doc. 01-13963 Filed 6-1-01; 8:45 am]

BILLING CODE 4310-70-P